DEPARTMENT OF HEALTH AND HUMAN SERVICES

Centers for Disease Control and Prevention

Disease, Disability, and Injury Prevention and Control

Special Emphasis Panel (SEP): National Center for Construction Safety and Health, Request for Application (RFA) 09-001, Initial Review

In accordance with Section 10(a)(2) of the Federal Advisory Committee Act (Pub. L. 92-463), the Centers for Disease Control and Prevention (CDC) announces the aforementioned meeting:

Times and Dates:

6 p.m.-7 p.m., July 27, 2009 (Closed).

9 a.m.-5 p.m., July 28, 2009 (Closed).

9 a.m.-5 p.m., July 29, 2009 (Closed).

Place: Sheraton Station Square, 300 W. Station Square Drive, Pittsburgh, Pennsylvania 15129, Telephone: (412) 261-2000.

Status: The meeting will be closed to the public in accordance with provisions set forth in Section 552b(c) (4) and (6), Title 5 U.S.C., and the Determination of the Director, Management Analysis and Services Office, CDC, pursuant to Public Law 92-463.

Matters to be Discussed: The meeting will include the initial review, discussion, and evaluation of applications received in response to “National Center for Construction Safety and Health, RFA 09-001.”

Contact Person for More Information: George Bockosh, Scientific Review Administrator, Office Of Extramural Programs, National Institute for Occupational Safety and Health, CDC, 1600 Clifton Road, NE., Mailstop P05, Atlanta Georgia 30333; Telephone: (412) 352-5181; GBockosh@cdc.gov.

The Director, Management Analysis and Services Office, has been delegated the authority to sign Federal Register notices pertaining to announcements of meetings and other committee management activities, for both CDC and the Agency for Toxic Substances and Disease Registry.

Dated: June 3, 2009.
Lorenzo Falgiano,
Acting Director, Management Analysis and Services Office, Centers for Disease Control and Prevention.

[FR Doc. E9-13561 Filed 6-9-09; 8:45 am]

BILLING CODE 4163-18-P